DEPARTMENT OF COMMERCE

National Oceanic and Atmospheric Administration

RIN 0648-XT21

Marine Mammals; File No. 555-1870

AGENCY: National Marine Fisheries Service (NMFS), National Oceanic and Atmospheric Administration (NOAA), Commerce.

ACTION: Notice; issuance of permit amendment.

SUMMARY: Notice is hereby given that James T. Harvey, Ph.D., Moss Landing Marine Laboratories, 8272 Moss Landing Road, Moss Landing, CA 95039, has been issued a major amendment to Permit No. 555-1870-01.

ADDRESSES: The permit amendment and related documents are available for review upon written request or by appointment in the following offices:

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

FOR FURTHER INFORMATION CONTACT: Amy Sloan or Tammy Adams, (301)713-2289.

SUPPLEMENTARY INFORMATION: On July 8, 2010, notice was published in the Federal Register (75 FR 39206) that a request for an amendment to Permit No. 555-1870-01 to conduct research on harbor seals (Phoca vitulina) had been submitted by the above-named applicant. The amendment has been issued under the authority of the Marine Mammal Protection Act of 1972, as amended (16 U.S.C. 1361 et seq.), and the regulations governing the taking and importing of marine mammals (50 CFR part 216).

The permit amendment (Permit No. 555-1870-02) authorizes an increase in the number of subadult harbor seals taken annually in California by capture, sedation, tagging, and sampling from 40 seals (20 males and 20 females) to 70 seals (35 males and 35 females). Also, a pilot study is authorized to bring up to six seals into temporary captivity to assess the efficacy of a modified sedation and suture protocol for implantation of subcutaneous radio tags. If effective, the modified protocols will be implemented in the field. The permit expires April 15, 2012.

In compliance with the National Environmental Policy Act of 1969 (42 U.S.C. 4321 et seq.), a final determination has been made that the activity proposed is categorically excluded from the requirement to prepare an environmental assessment or environmental impact statement.

Dated: August 25, 2010.
P. Michael Payne,
Chief, Permits, Conservation and Education Division, Office of Protected Resources, National Marine Fisheries Service.

[FR Doc. 2010-22075 Filed 9-3-10; 8:45 am]

BILLING CODE 3510-22-S